DEPARTMENT OF THE TREASURY

Alcohol and Tobacco Tax and Trade Bureau

27 CFR Part 9

[Docket No. TTB-2015-0008; Notice No. 152]

RIN 1513-AC21

Proposed Expansion of the Willamette Valley Viticultural Area

AGENCY: Alcohol and Tobacco Tax and Trade Bureau, Treasury.

ACTION: Notice of proposed rulemaking.

SUMMARY: The Alcohol and Tobacco Tax and Trade Bureau (TTB) proposes to expand the approximately 5,360-square mile “Willamette Valley” viticultural area in northwestern Oregon by approximately 29 square miles. The established Willamette Valley viticultural area and the proposed expansion area do not lie within any other viticultural area. TTB designates viticultural areas to allow vintners to better describe the origin of their wines and to allow consumers to better identify wines they may purchase. TTB invites comments on this proposed addition to its regulations.

DATES: Comments must be received by August 17, 2015.

ADDRESSES: Please send your comments on this notice of proposed rulemaking to one of the following addresses:

• Internet: http://www.regulations.gov (via the online comment form for this notice of proposed rulemaking as posted within Docket No. TTB-2015-0008 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of this notice of proposed rulemaking for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 10, 2013, to the TTB Administrator to perform the functions and duties in the administration and enforcement of this law.

Part 4 of the TTB regulations (27 CFR part 4) authorizes TTB to establish definitive viticultural areas and regulate the use of their names as appellations of origin on wine labels and in wine advertisements. Part 9 of the TTB regulations (27 CFR part 9) sets forth the standards for the preparation and submission of petitions for the establishment or modification of American viticultural areas (AVAs) and lists the approved American viticultural areas.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing the establishment of an AVA and provides that any interested party may petition TTB to establish a grape-growing region as an AVA. Petitioners may use the same procedures to request changes involving existing AVAs. Section 9.12(c) of the TTB regulations (27 CFR 9.12(c)) prescribes standards for petitions for modifying established AVAs. Petitions to expand an established AVA must include the following:

• Evidence that the region within the proposed expansion area boundary is nationally or locally known by the name of the established AVA;

• An explanation of the basis for defining the boundary of the proposed expansion area;

• A narrative description of the features of the proposed expansion area affecting viticulture, including climate, geology, soils, physical features, and elevation, that make the proposed expansion area similar to the established AVA and distinguish it from adjacent areas outside the established AVA boundary;

• The appropriate United States Geological Survey (USGS) map(s) showing the location of the proposed expansion area, with the boundary of the proposed expansion area clearly drawn thereon; and

• A detailed narrative description of the proposed expansion area boundary based on USGS map markings.

Petition To Expand the Willamette Valley AVA

TTB received a petition from Steve Thomson, the executive vice president of King Estate Winery in Eugene, Oregon, proposing to expand the established “Willamette Valley” AVA in northwestern Oregon. The Willamette Valley AVA (27 CFR 9.90) was established by T.D. ATF-162, which published in the Federal Register on December 1, 1983 (48 FR 54221). The Willamette Valley AVA covers approximately 5,360 square miles in Benton, Lane, Linn, Clackamas, Lincoln, Marion, Multnomah, Polk, Tillamook, Washington, and Yamhill Counties. The Willamette Valley AVA is not located within any other AVA, but it does contain six smaller AVAs: Chehalem Mountains, Dundee Hills, Eola-Amity Hills, McMinnville, Ribbon Ridge, and Yamhill-Carlton.

The proposed expansion area is located in Lane County adjacent to the southern tip of the existing Willamette Valley AVA boundary and covers approximately 29 square miles. The King Estate Winery operates one of the two commercial vineyards covering a total of 508 acres located within the proposed expansion area, and has provided information that the second vineyard affected is also in favor of the proposed expansion. King Estate Winery and the second vineyard each have a winery within the proposed expansion area. A third winery would also be included; however, it does not operate a vineyard within the proposed expansion area. The vineyards and the wineries did not exist when the Willamette Valley AVA was established in 1983 and currently are not located within any AVA. The petition included letters from the president of the Willamette Valley Wineries Association and the president of the Oregon Winegrowers Association in support of the proposed expansion. According to the petition, the soils, climate, and topography of the proposed expansion area are consistent with those of the established AVA. Unless otherwise noted, all information and data pertaining to the proposed expansion area contained in this document come from the petition and its supporting exhibits.

Name Evidence

The petition provides evidence that the proposed expansion area is associated with the established Willamette Valley AVA. King Estate Winery, where the petitioner is the executive vice president, is located within the proposed expansion area and has a “Eugene, Oregon” mailing address. The city of Eugene is located within the current boundaries of the Willamette Valley AVA. The petition also states that the two vineyards located within the proposed expansion area are included in the National Agricultural Statistics Service's annual compilation of vineyard statistics within the region called the “South Willamette Valley.”

Finally, the petition includes excerpts from wine lists from 11 different restaurants across the United States and one in Denmark that offer wines from the King Estate Winery. Although wines from the King Estate Winery use “Oregon” as the appellation of origin on their labels, the restaurant wine lists all describe the wine as coming from “Willamette,” “Willamette Valley,” or “Willamette, Oregon.” The petition states that these wine lists demonstrate that sellers and consumers currently associate the wines made in the proposed expansion area with the Willamette Valley AVA, even though the King Estate Winery does not market or label the wines as such.

Boundary Evidence

The Willamette Valley AVA is a long, narrow region encompassing the Willamette River basin. The AVA is approximately 120 miles long and 60 miles wide. The current AVA boundary begins at the intersection of the Multnomah-Columbia County line and the Oregon-Washington boundary. The current boundary then proceeds southward, primarily following the meandering 1,000-foot elevation contour, into Lane County. South of the city of Eugene and north of the Siuslaw River, the current AVA boundary briefly leaves the 1,000-foot elevation contour near Panther Creek and follows a series of straight lines drawn between marked features on the USGS maps before reconnecting with the 1,000-foot elevation contour near the community of Lorane. The current boundary then follows the elevation contour as it meanders southward to Sharps Creek, to a point near the Lane-Douglas County line. The current boundary then follows the 1,000-foot elevation contour as it turns northward and returns to the Oregon-Washington boundary. According to T.D. ATF-162, the 1,000-foot elevation contour was chosen to form the majority of the AVA boundary because 1,000 feet is the maximum elevation for successful viticulture in this region of Oregon.

The boundary of the proposed expansion area would modify the portion of the current AVA boundary that follows the straight lines drawn between marked features on the USGS maps near Panther Creek, in the southwestern portion of the AVA. The proposed expansion boundary would not use straight lines between points but instead would continue to follow the 1,000-foot elevation contour to the Lane-Douglas county line. The proposed expansion area boundary would then proceed east along the Lane-Douglas county line until it rejoins the 1,000-foot elevation contour, and then proceed north-northeasterly along the elevation contour until it joins the current Willamette Valley AVA boundary near Lorane. The proposed expansion area would not extend south into Douglas County because the Douglas County line forms the northern boundary of the Umpqua River Valley AVA (27 CFR 9.89), which has features that are distinctive from those of the Willamette Valley AVA.

Both the established Willamette Valley AVA and the proposed expansion area are surrounded to the west, east, and immediate south by high, steep mountains. To the east are the Cascade Mountains, and to the west are the Coast Range Mountains. To the south are the Calapooya Mountains, as well as the Umpqua River Valley.

Distinguishing Features

As justification of the expansion area, which is based on similarities in distinguishing features, the expansion petition quotes the original Willamette Valley AVA petition, which stated, “[I]t is the intention of the Oregon Winegrowers Association to define this area as broadly as geographical data and viticultural experience will allow, so as not to stifle experimentation in new sites. * * * If any such sites come to light during the evaluation of this petition, we would urge they be included in the final description of the viticultural area.” According to the petition, the proposed expansion area contains the same climate, soils, and topography as the established Willamette Valley AVA. The expansion petition concludes that, had the two vineyards in the proposed expansion area existed at the time the Willamette Valley AVA was established, the proposed expansion area would have been included because the region shares characteristics similar to those of the established AVA. Those characteristics are discussed in detail below.

Climate

The petition compared the climate of the proposed expansion area to that of the established Willamette Valley AVA and the surrounding regions. The petition included a map generated using the PRISM mapping system ¹ that showed the growing degree day ² (GDD) accumulations and average growing season temperatures throughout the proposed expansion area, the established AVAs within the Willamette Valley AVA, and the surrounding regions. The following tables summarize the data from the map:

¹ The PRISM climate data mapping system combined climate normals gathered from weather stations, along with other factors such as elevation, longitude, slope angles, and solar aspect to estimate the general climate patterns for the proposed AVA and the surrounding regions. Climate normals are only calculated every 10 years, using 30 years of data, and at the time the petition was submitted, the most recent climate normals available were from the period of 1971-2000. (PRISM Climate Group, Oregon State University, http://prism.oregonstate.edu, created 4 February 2004.)

² In the Winkler climate classification system, annual heat accumulation during the growing season, measured in annual growing degree days (GDD), defines climatic regions. One GDD accumulates for each degree Fahrenheit that a day's mean temperature is above 50 degrees, the minimum temperature required for grapevine growth (“General Viticulture,” by Albert J. Winkler, University of California Press, 1974, pages 61-64).

Table 1—Average Growing Season Temperatures
[Degrees Fahrenheit (F)]
Location | Average minimum temperature | Average maximum temperature | Average mean temperature
Proposed Expansion Area | 58.2 | 59.1 | 58.6
Temperatures Within Willamette Valley AVA
Chehalem Mountains AVA | 55.9 | 59.8 | 58.7
Eola-Amity Hills AVA | 57.6 | 59.5 | 58.8
McMinnville AVA | 57.1 | 59.6 | 58.9
Yamhill-Carlton AVA | 56.8 | 59.9 | 59.0
Ribbon Ridge AVA | 58.5 | 59.4 | 59.0
Dundee Hills AVA | 57.7 | 59.7 | 59.1
Temperatures South of Willamette Valley AVA and Proposed Expansion Area
Umpqua Valley AVA | 55.9 | 61.5 | 59.3

Table 2—Growing Degree Day Accumulations
Location | Average minimum accumulations | Average maximum accumulations | Average mean accumulations
Proposed Expansion Area | 1780 | 1935 | 1862
GDD Accumulations Within Willamette Valley AVA
Chehalem Mountains AVA | 1382 | 2093 | 1885
Eola-Amity Hills AVA | 1683 | 2048 | 1906
McMinnville AVA | 1597 | 2059 | 1919
Yamhill-Carlton AVA | 1544 | 2124 | 1930
Ribbon Ridge AVA | 1843 | 2016 | 1931
Dundee Hills AVA | 1692 | 2077 | 1946
GDD Accumulations South of Willamette Valley AVA and Proposed Expansion Area
Umpqua Valley AVA | 1415 | 2468 | 2007

The PRISM data shows that during the growing season, the proposed expansion area and the six established AVAs within the larger Willamette Valley AVA all have lower average mean temperatures and average maximum temperatures and higher average minimum temperatures than the Umpqua Valley AVA. Growing season temperatures within the proposed expansion area are most similar to those in the Chehalem Mountains, Eola-Amity Hills, and McMinnville AVAs. Although the average GDD accumulations within the proposed expansion area are lower than those of the six established AVAs within the Willamette Valley AVA, they are more similar to those accumulations than to the higher GDD accumulations of the Umpqua Valley AVA.

The petition also included information on the growing season temperatures, rainfall amounts, and GDD accumulations from a private weather station at the King Estate Vineyard, within the proposed expansion area, and from regional weather stations located in Cottage Grove, Eugene, and Drain, Oregon. According to the petition, Cottage Grove is approximately 11 miles east of the King Estate Vineyard, Eugene is approximately 18 miles northeast of the vineyard, and Drain is just over 15 miles south of the vineyard. The data was collected from each station from April 1 through October 31 from 2008 through 2012. Although data from Eugene was included in the petition, the petitioner states that the data from that location is not a good representative of temperatures within the nearby portions of the Willamette Valley AVA because the weather station is located at the Eugene airport and represents a warmer urban-biased climate. Therefore, although all the climate data provided in the petition is available for viewing in Docket No. TTB-2015-0008, the Eugene data has been omitted from the following table:

Table 3—Growing Season Climate Data
Description | 2008 | 2009 | 2010 | 2011 | 2012 | Average
King Estate Vineyard (within proposed expansion area)
Average Mean Temperature (degrees F) | 57.2 | 58.4 | 57.0 | 56.8 | 58.5 | 57.6
GDD Accumulations | 1827 | 2001 | 1709 | 1697 | 1957 | 1838
Total Precipitation (inches) | 6.84 | 12.06 | 21.36 | 14.09 | 11.84 | 13.24
Cottage Grove, OR (east of proposed expansion area, within Willamette Valley AVA)
Average Mean Temperature (degrees F) | 58.3 | 59.8 | 58.2 | 57.8 | 58.8 | 58.6
GDD Accumulations | 2037 | 2277 | 1945 | 1864 | 2033 | 2031
Total Precipitation (inches) | 10.32 | 14.84 | 22.85 | 17.47 | 17.07 | 16.51
Drain, OR (south of proposed expansion area, in Umpqua Valley AVA)
Average Mean Temperature (Degrees F) | 59.9 | 60.8 | 60.0 | 59.8 | 60.9 | 60.3
GDD Accumulations | 2302 | 2467 | 2280 | 2238 | 2419 | 2341
Total Precipitation (inches) | 7.63 | 12.96 | 23.06 | 14.04 | 15.04 | 14.55

The data shows that although precipitation amounts within the proposed expansion area are similar to the precipitation amounts for Cottage Grove (located within the Willamette Valley AVA) and Drain (located within the Umpqua Valley AVA), the proposed expansion area's GDD accumulations are more similar to those of the Willamette Valley location. Additionally, the proposed expansion area's average mean temperatures are more similar to that of the Willamette Valley location. The data from the King Estate Winery weather station, within the proposed expansion area, is also similar to that generated by the PRISM mapping system for the entire proposed expansion area, which is summarized in tables 1 and 2.

Soils

The petition included an analysis of the soils of the proposed expansion area. According to the analysis, the five most common soil series within the proposed expansion area are, from most to least common, the Bellpine, Willakenzie, Dupee, Jory, and Peavine series. These five soils cover approximately 74 percent of the proposed expansion area. These soils are also considered to be in the “xeric” moisture regime of soil classification. Xeric soils are common in regions with a “Mediterranean” climate, which consists of cool, moist winters and warm, dry summers. As a result of the warm, dry summers, xeric soils typically retain little water by the end of the growing season.

According to the petition, there are 23 soil series present within the Willamette Valley AVA, including all five of the most common soil series found within the proposed expansion area. The most common soils within the Willamette Valley AVA are from the Jory series, followed by soils of the Willakenzie series. Soils of the Bellpine, Dupee, and Peavine series are the ninth, eleventh, and twelfth most common soils within the Willamette Valley, respectively.

T.D. ATF-162, which established the Willamette Valley AVA, did not describe the soils of the AVA or the surrounding regions in great detail, only noting that the soils within the AVA were silty loams and clay loams, while the surrounding regions contained “mountain soils.” The proposed expansion petition describes the soils outside both the proposed expansion area and the Willamette Valley AVA in more detail. According to the petition, the Peavine soils that are found both in the proposed expansion area and the Willamette Valley AVA are also present in the surrounding regions outside the AVA and the proposed expansion area. However, the region outside the AVA also contains Blanchley, Honeygrove Complex, Bohanon, Preacher, Klickitat, Kirney, and Digger Complex soils, which are not found in either the proposed expansion region or the Willamette Valley AVA. Additionally, the petition notes that, with the exception of the Peavine soils, the soils outside the proposed expansion area and the Willamette Valley AVA are all in the “udic” moisture regime of soil classification. Udic soils are common in humid climates where rainfall is evenly distributed throughout the year. As a result, udic soils typically retain even amounts of moisture throughout the year, unlike the drier xeric soils of the proposed expansion area and the Willamette Valley AVA.

Topography

The proposed expansion area is located on the leeward side of the Coast Range Mountains, which shelter the proposed expansion area from most of the cool, moist marine air that flows inward from the Pacific Ocean. The terrain of the proposed expansion area is comprised of foothills and valleys. Elevations within the area range from approximately 500 to 1,200 feet. Vineyards within the proposed expansion area are planted on hillsides at elevations between approximately 600 feet and 1,050 feet.

The topography of the proposed expansion area is similar to that of the established Willamette Valley AVA. The established AVA is composed of rolling hills and valleys between the Coast Range Mountains, which are to the west of the established AVA, and the Cascade Mountains, which are to its east. The Coast Range Mountains shelter the AVA from much of the marine air. Elevations within the AVA are between approximately 115 feet and 1,630 feet. Vineyards are planted on hillsides at elevations between 200 feet and 1,300 feet. Both the Willamette Valley AVA and the proposed expansion area are surrounded by the higher, more mountainous Cascade Mountains to the east of the two areas, the Calapooya Mountains to their south, and the Coast Range Mountains to their west.

Much of the land within the Willamette Valley AVA is part of the Willamette Valley watershed. However, the petition notes that there are portions of the AVA that drain into other rivers, including “significant acres of land” in the northern portion of the AVA that drain into the Columbia River. Other portions of the AVA drain into the Sandy River and the Siuslaw River. The proposed expansion area drains into both the Willamette River and the Siuslaw River. By contrast, the region south of the proposed expansion area and the Willamette Valley AVA drains exclusively into the Umpqua River.

TTB Determination

TTB concludes that the petition to expand the boundaries of the established Willamette Valley AVA merits consideration and public comment, as invited in this notice of proposed rulemaking.

Boundary Description

See the narrative description of the boundary of the petitioned-for expansion area in the proposed regulatory text published at the end of this proposed rule.

Maps

To document the existing and proposed boundaries of the Willamette Valley AVA, the petitioner provided a copy of the required map, and it is listed below in the proposed regulatory text.

Impact on Current Wine Labels

For a wine to be labeled with a viticultural area name or with a brand name that includes an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name or other viticulturally significant term that was used as a brand name on a label approved before July 7, 1986. See § 4.39(i)(2) of the TTB regulations (27 CFR 4.39(i)(2)) for details.

The approval of the proposed expansion of the Willamette Valley AVA would not affect any other existing viticultural area. The expansion of the Willamette Valley AVA would allow vintners to use “Willamette Valley” as an appellation of origin for wines made primarily from grapes grown within the proposed expansion area if the wines meet the eligibility requirements for the appellation.

Public Participation

Comments Invited

TTB invites comments from interested members of the public on whether it should expand the Willamette Valley AVA as proposed. TTB is specifically interested in receiving comments on the similarity of the proposed expansion area to the established Willamette Valley AVA, as well as the differences between the proposed expansion area and the areas outside the Willamette Valley AVA. Please provide specific information in support of your comments.

Submitting Comments

You may submit comments on this notice of proposed rulemaking by using one of the following three methods:

• Federal e-Rulemaking Portal: You may send comments via the online comment form posted with this notice of proposed rulemaking within Docket No. TTB-2015-0008 on “Regulations.gov,” the Federal e-rulemaking portal, at http://www.regulations.gov. A direct link to that docket is available under Notice No. 152 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 400, Washington, DC 20005.

Please submit your comments by the closing date shown above in this notice of proposed rulemaking. Your comments must reference Notice No. 152 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice of proposed rulemaking, selected supporting materials, and any online or mailed comments received about this proposal within Docket No. TTB-2015-0008 on the Federal e-rulemaking portal, Regulations.gov, at http://www.regulations.gov. A direct link to that docket is available on the TTB Web site at http://www.ttb.gov/wine/wine_rulemaking.shtml under Notice No. 152. You may also reach the relevant docket through the Regulations.gov search page at http://www.regulations.gov. For information on how to use Regulations.gov, click on the Web site's “Help” tab.

All posted comments will display the commenter's name, organization (if any), city, and State, and, in the case of mailed comments, all address information, including email addresses. TTB may omit voluminous attachments or material that the Bureau considers unsuitable for posting.

You may also view copies of this notice of proposed rulemaking, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of USGS maps or other similarly-sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Section 9.90 is amended by revising paragraph (b) introductory text, adding new paragraph (b)(4), removing paragraphs (c)(11) through (c)(13), redesignating paragraphs (c)(14) through (c)(32) as paragraphs (c)(18) through (c)(36), and adding new paragraphs (c)(11) through (c)(17) to read as follows:

§ 9.90 Willamette Valley.

* * * * *

(b) Approved maps. The approved maps for determining the boundaries of the Willamette Valley viticultural area are three U.S.G.S. Oregon maps scaled 1:250,000 and one U.S.G.S. Oregon map scaled 1:24,000. They are entitled:

* * * * *

(4) “Letz Creek, OR” (revised 1984).

(c) * * *

(11) Northeast, then southeast along the 1,000 foot contour line approximately 12 miles to its intersection with the R5W/R6W range line;

(12) South along the R5W/R6W range line approximately 0.25 mile to the intersection with the 1,000 foot contour line;

(13) Generally southeast along the meandering 1,000 foot contour line, crossing onto the Letz Creek map, to a point on the 1,000 foot contour line located due north of the intersection of Siuslaw River Road and Fire Road;

(14) South in a straight line approximately 0.55 mile, crossing over the Siuslaw River and the intersection of Siuslaw River Road and Fire Road, to the 1,000 foot contour line;

(15) Generally southeast along the meandering 1,000 foot contour line, crossing onto the Roseburg, Oregon map, to the intersection of the 1,000 foot contour line with the Lane/Douglas County line;

(16) East along the Lane/Douglas County line approximately 3.8 miles to the intersection with the 1,000 foot contour line just east of the South Fork of the Siuslaw River;

(17) Generally north, then northeast along the 1,000 foot contour line around Spencer Butte, and then generally south to a point along the Lane/Douglas County line 0.5 mile north of Interstate Highway 99;

* * * * *

Signed: June 11, 2015.
John J. Manfreda,
Administrator.

[FR Doc. 2015-15036 Filed 6-17-15; 8:45 am]

BILLING CODE 4810-31-P